DEPARTMENT OF THE INTERIOR

Bureau of Land Management

[LLNMA00000 L12200000.DF0000 15X L1010BP]

Notice of Public Meeting, Albuquerque District Resource Advisory Council Meeting, New Mexico

AGENCY: Bureau of Land Management, Interior.

ACTION: Notice of public meeting.

SUMMARY: In accordance with the Federal Land Policy and Management Act and the Federal Advisory Committee Act, the Bureau of Land Management (BLM) Albuquerque District Resource Advisory Council (RAC) will meet as indicated below.

DATES: The RAC will meet on Friday, April 17, 2015, at the Socorro Field Office, 901 South Highway 85, Socorro, NM 87801, from 9 a.m.-4 p.m. The public may send written comments to the RAC at the BLM Albuquerque District Office, 435 Montano Rd., Albuquerque, NM 87107.

FOR FURTHER INFORMATION CONTACT: Martín Visarraga, BLM Albuquerque District Office, 435 Montano Rd., Albuquerque, NM 87107, 505-761-8902. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member Albuquerque District RAC advises the Secretary of the Interior, through the BLM, on a variety of planning and management issues associated with public land management in New Mexico's Albuquerque District.

Planned agenda items include updates on the SunZia Southwest Transmission Project; the Kinder Morgan Lobos CO2 Pipeline Project; the upcoming move of the Rio Puerco Field Office and transition to a mobile workforce; and the Rio Puerco Resource Management Plan. There will also be a discussion on fee increases for the Kasha-Katuwe Tent Rocks National Monument and Datil Well Campground, sustainable resource efforts, and recreation opportunities for the Albuquerque District.

A half-hour comment period during which the public may address the RAC will begin at 11 a.m. All RAC meetings are open to the public. Depending on the number of individuals wishing to comment and time available, the time for individual oral comments may be limited.

Michael H. Tupper,
Deputy State Director, Lands and Resources.

[FR Doc. 2015-06228 Filed 3-17-15; 8:45 am]

BILLING CODE 4310-FB-P